NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: November 14, 2012; 1:00 p.m. to 5:30 p.m. (EST) November 15, 2012; 8:00 a.m. to 12:00 p.m. (EST).

Place: National Science Foundation, 4201 Wilson Boulevard, Stafford I, Room 375, Arlington, VA 22230.

Type of Meeting: Open.

Contact Person: Patty Balanga, National Science Foundation, 4201 Wilson Boulevard, Arlington, VA 22230, (703) 292-8100.

Purpose of Meeting: To provide advice concerning issues related to the oversight, integrity, development and enhancement of NSF's business operations.

Agenda

November 14, 2012

Welcome/Introductions; BFA/OIRM Updates; NSF Workforce Challenges-Overview, BFA Strategic Priorities, Managing Workload, Performance Management.

November 15, 2012

Prepare for Meeting with NSF Deputy Director; Discussion with Deputy Director; NSF Workforce Challenges-Managing Workload-Program Viewpoint; Virtual Meetings; Environmental Scan: Discussion about External Factors and Upcoming Challenges and Opportunities Affecting NSF; Closing Discussion.

Dated: October 23, 2012.
Susanne Bolton,
Committee Management Officer.

[FR Doc. 2012-26364 Filed 10-25-12; 8:45 am]

BILLING CODE 7555-01-P